DEPARTMENT OF COMMERCE

Submission for OMB Review; Comment Request

AGENCY: U.S. Census Bureau.

DOC has submitted to the Office of Management and Budget (OMB) for clearance the following proposal for collection of information under the provisions of the Paperwork Reduction Act (44 U.S.C. chapter 35).

Title: Advance Monthly Retail Sales Survey.

Form Number(s): SM-44(00)A, SM-44(00)AS, SM-44(00)AE, SM-72(00)A.

Agency Approval Number: 0607-0104.

Type of Request: Revision of a currently approved collection.

Burden: 4,500 hours.

Number of Respondents: 4,500.

Avg Hours Per Response: 5 minutes.

Needs and Uses: The Advance Monthly Retail Sales Survey (MARTS) provides an early indication of current retail sales activity at the United States level. Policymakers such as the Federal Reserve Board need to have the most timely estimates in order to anticipate economic trends and act accordingly. The Bureau of Economic Analysis (BEA), the Council of Economic Advisors (CEA), and other government agencies and businesses use the data to formulate economic policy and make decisions. These estimates have a high BEA priority because of their timeliness. There would be approximately a month delay in the availability of these data if this survey were not conducted. Data are collected monthly from small, medium, and large size businesses, selected using a stratified random sampling procedure. The MARTS sample is re-selected periodically, generally at two year intervals. Small and medium-size retailers are requested to participate for those two years, after which they are replaced with new panel members. Smaller firms have less of a chance for selection due to our sampling procedure. We are increasing the sample size from 4,100 to 4,500 to improve the quality of the estimates.

This request is for the clearance of four similar report forms SM-44(00)A; SM-44(00)AE; SM-44(00)AS & SM-72(00)A which will be replacing the form B-104 previously used to collect data in this survey on the Standard Industrial Classification (SIC) basis. The new forms will enable us to collect information on the North American Industry Classification System (NAICS) basis. All forms request similar data items but a variety of forms is needed to either address collecting E-commerce sales or the firm's specific kind-of-business.

Affected Public: Businesses or other for-profit organizations.

Frequency: Monthly.

Respondent's Obligation: Voluntary.

Legal Authority: Title 13 U.S.C., Section 182.

OMB Desk Officer: Susan Schechter, (202) 395-5103.

Copies of the above information collection proposal can be obtained by calling or writing Madeleine Clayton, Departmental Forms Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: October 20, 2000.
Madeleine Clayton,
Departmental Forms Clearance Officer, Office of the Chief Information Officer.

[FR Doc. 00-27423 Filed 10-24-00; 8:45 am]

BILLING CODE 3510-07-P